DEPARTMENT OF ENERGY

Federal Energy Regulatory Commission

[Docket No. CP00-231-000]

Southern Natural Gas Company; Notice of Application

May 5, 2000.

Take notice that on April 28, 2000, Southern Natural Gas Company (Southern), AmSouth-Sonat Tower, 1900 Fifth Avenue North, Birmingham, Alabama 35203, filed in Docket No. CP00-231-000 an application pursuant to Section 7 of the Natural Gas Act (NGA), for a certificate of public convenience and necessity authorizing Southern to construct, install, and operate a 3,500 horsepower compressor unit at its existing Wrens Compressor Station in Jefferson County, Georgia, all as more fully set forth in the application which is on file with the Commission and open to public inspection. The filing may be viewed at http://www.ferc.fed.us/online/rims.htm (call 202-208-2222 for assistance).

Any questions regarding the application should be directed to Ms. Patricia S. Francis, Senior Counsel, Southern Natural Gas Company, Post Office Box 2563, Birmingham, Alabama 35202-2563 or call (205) 325-7696.

Southern states that the proposed compressor addition is an integral part of an Offer of Settlement filed by Southern on March 10, 2000, in Docket Nos. RP99-496-000 and RP99-496-001 to resolve all outstanding issues in Southern's Section 4 rate proceeding. Southern also states that pursuant to Article X of the Offer of Settlement, it requests permission to roll the costs of the compressor addition into its system-wide rates in Southern's next rate case. Southern estimates that the compressor addition will cost about $5.2 million.

Southern states that the proposed compressor addition will improve system operations at a critical compressor station on Southern's South Maine Line which provides service to Southern's existing customers. Specifically, Southern states that the compressor addition will stabilize pressures at the eastern end of its system and will reduce the amount of switching between its South Main Lines and Wrens Savannah Lines.

Any person desiring to participate in the hearing process or to make any protest with reference to said application should on or before May May 26, 2000, file with the Federal Energy Regulatory Commission, Washington, D.C. 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate in any hearing therein must file a motion to intervene in accordance with the Commission's Rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of the environmental documents and will be able to participate in meetings associated with the Commission's environmental review process. Commenters will not be required to serve copies of filed documents on all other parties. However, commenters will not receive copies of all documents filed by other parties, or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for Southern to appear or be represented at the hearing.

David P. Boergers,
Secretary.

[FR Doc. 00-11773 Filed 5-10-00; 8:45 am]

BILLING CODE 6717-01-M